FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 7, 2014.

A. Federal Reserve Bank of St. Louis (Yvonne Sparks, Community Development Officer) P.O. Box 442, St. Louis, Missouri 63166-2034:

1. Greg Allen, as trustee or co-trustee for the Teresa Grindstaff Trust U/I William Cooper General Trust, Teresa Grindstaff Perpetuity Trust, Teresa Grindstaff IRA, Teresa Grindstaff 2012 Family Trust, Walker Family Trust U/I William Cooper General Trust, Tammy Walker Perpetuity Trust, Walker Family IRA, Greg Allen U/I William Cooper, Jane Allen Trust, and Greg E. Allen IRA, all of Farmington, Missouri; to retain voting shares of First State Bancshares, Inc., Farmington, Missouri, and thereby indirectly retain voting shares of First State Community Bank, Farmington, Missouri.

B. Federal Reserve Bank of Kansas City (Dennis Denney, Assistant Vice President) 1 Memorial Drive, Kansas City, Missouri 64198-0001:

1. The Robert C. Asmus Equity Interests Trust and Steven R. Bloch, individually and as trustee, both of Omaha, Nebraska; to acquire voting shares of Enterprise Holding Company, and thereby indirectly acquire voting shares of Enterprise Bank, both in Omaha, Nebraska.

Board of Governors of the Federal Reserve System, April 17, 2014.
Michael J. Lewandowski,
Associate Secretary of the Board.

[FR Doc. 2014-09107 Filed 4-21-14; 8:45 am]

BILLING CODE 6210-01-P